DEPARTMENT OF AGRICULTURE

Commodity Credit Corporation

Announcement of the Foreign Market Development Cooperator Program for Fiscal Year 2003

AGENCY: Commodity Credit Corporation, USDA.

ACTION: Notice.

SUMMARY: Commodity Credit Corporation is inviting proposals for the Fiscal Year 2003 Foreign Market Development Cooperator Program.

DATES: All applications must be received by 5 p.m. Eastern Standard Time, March 11, 2002.

FOR FURTHER INFORMATION CONTACT: Marketing Operations Staff, Foreign Agricultural Service, U.S. Department of Agriculture, Room 4932-S, STOP 1042, 1400 Independence Ave., SW., Washington, DC 20250, (202) 720-4327.

SUPPLEMENTARY INFORMATION:

Introduction

The Commodity Credit Corporation (CCC) announces that applications are being accepted for participation in the Fiscal Year 2003 Cooperator (Cooperator) program. The program is designed to create, expand, and maintain foreign markets for United States' agricultural commodities and products through cost-share assistance. Financial assistance under the Cooperator program will be made available on a competitive basis and applications will be reviewed against the evaluation criteria contained herein. The Cooperator program is administered by the Foreign Agricultural Service (FAS).

Under the Cooperator program, CCC enters into agreements with nonprofit U.S. trade organizations which have the broadest possible producer representation of the commodity being promoted and gives priority to those organizations which are nationwide in membership and scope. Cooperators may receive assistance only for the promotion of generic activities which do not involve promotions targeted directly to consumers. The program generally operates on a reimbursement basis.

Authority

The Cooperator program is authorized by section 5(f) of the Commodity Credit Corporation Charter Act, 15 U.S.C. 714c(f). Cooperator program regulations appear at 7 CFR part 1484.

Eligible Applicants

To participate in the Cooperator program an applicant must be a nonprofit U.S. agricultural trade organization.

Application Process

To be considered for the Cooperator program an applicant must submit to the FAS information required by the Cooperator program regulations set forth in 7 CFR part 1484. Incomplete applications and applications which do not otherwise conform to this announcement will not be accepted for review.

The FAS administers various other agricultural export assistance programs, including the Market Access Program (MAP), Cochran Fellowships, the Emerging Markets Program, the Quality Samples Program, Section 108 foreign currency program, and several Export Credit Guarantee programs. Organizations which are interested in applying for Cooperator program funds are encouraged to submit their requests using the Unified Export Strategy (UES) format. The UES allows interested entities to submit a consolidated and strategically coordinated single proposal that incorporates requests for funding and recommendations for virtually all the FAS marketing programs, financial assistance programs, and market access programs. The suggested UES format encourages applicants to examine the constraints or barriers to trade which they face, identify activities which would help overcome such impediments, consider the entire pool of complementary marketing tools and program resources, and establish realistic export goals. Applicants are not required, however, to use the UES format.

Organizations can submit applications in the UES format by two methods. The first allows an applicant to submit information directly to the FAS through the UES application Internet site. The FAS highly recommends applying via the Internet, as this format virtually eliminates paperwork and expedites the FAS processing and review cycle. Applicants also have the option of submitting electronic versions (along with two paper copies) of their applications to the FAS on diskette.

Applicants planning to use the Internet-based system must contact the FAS Marketing Operations Staff on (202) 720-4327 to obtain site access information. The Internet-based application, including step-by-step instructions for its use, is located at the following URL address: http://www.fas.usda.gov/cooperators.html.

Applicants who choose to submit applications on diskette can download the UES handbook, including the suggested application format and instructions, from the following URL address: http://www.fas.usda.gov/mos/ues/unified.html. A UES handbook also may be obtained by contacting the Marketing Operations Staff on (202) 720-4327.

All cooperator program applicants, whether applying via the Internet on diskette, also must submit by March 11, 2002, via hand delivery or U.S. mail, an original signed certification statement as specified in 7 CFR section 1484.20(a)(14). The UES handbook contains an acceptable certification format.

Any organization which is not interested in applying for the Cooperator program but would like to request assistance through one of the other programs mentioned should contact the Marketing Operations Staff on (202) 720-4327.

Review Process and Allocation Criteria

The FAS allocates funds in a manner which effectively supports the strategic decision-making initiatives of the Government Performance and Results Act (GPRA) of 1993 and the USDA's Food and Agricultural Policy (FAP). In deciding whether a proposed project will contribute to the effective creation, expansion, or maintenance of foreign markets, the FAS seeks to identify a clear, long-term agricultural trade strategy and a program effectiveness time line against which results can be measured at specific intervals using quantifiable product or country goals. The FAS also considers the extent to which a proposed project targets markets with the greatest growth potential. These factors are part of the FAS resource allocation strategy to fund applicants who can demonstrate performance and address the objectives of the GPRA and FAP.

Following is a description of the FAS process for reviewing applications and the criteria for allocating available Cooperator program funds.

(1) Phase 1—Sufficiency Review and FAS Divisional Review

Applications received by the closing date will be reviewed by the FAS to determine eligibility of the applicants and the completeness of the applications. These requirements appear at § 1484.14 and § 1484.20 of the Cooperator program regulations. Applications which meet the application requirements then will be further evaluated by the proper FAS Commodity Division. The Divisions will review each application against the criteria listed in § 1484.21 and § 1484.22 of the Cooperator program regulations. The purpose of this review is to identify meritorious proposals and the recommend an appropriate funding level for each application based upon these criteria.

(2) Phase 2—Competitive Review

Meritorious applications then will be passed on to the Office of the Deputy Administrator, Commodity and Marketing Programs, for the purpose of allocating available funds among the applicants. Applications which pass the Divisional Review will compete for funds on the basis of the following allocation criteria (the number in parentheses represents a percentage weight factor):

(a) Contribution Level (40)

• The applicant's 6-year average share (1998-2003) of all contributions (contributions may include cash and goods and services provided by U.S. entities in support of foreign market development activities) compared to

• The applicant's 6-year average share (1998-2003) of all Cooperator marketing plan budgets.

(b) Past Export Performance (20)

• The 6-year average share (1997-2002) of the value of exports promoted by the applicant compared to

• The applicant's 6-year average share (1997-2002) of all Cooperator marketing plan budgets plus a 6-year average share (1996-2001) of foreign overhead provided for co-location within a U.S. agricultural trade office.

(c) Past Demand Expansion Performance (20)

• The 6-year average share (1997-2002) of the total value of world trade of the commodities promoted by the applicant compared to

• The applicant's 6-year average share (1997-2002) of all Cooperator marketing plan budgets plus a 6-year average share (1996-2001) of MAP program ceiling levels and a 6-year average share (1996-2001) of foreign overhead provided for co-location within a U.S. agricultural trade office.

(d) Future Demand Expansion Goals (10)

• The project total dollar value of world trade of the commodities being promoted by the applicant for the year 2008 compared to

• The applicant's requested funding level.

(e) Accuracy of Past Demand Expansion Projects (10)

• The actual dollar value share of world trade of the commodities being promoted by the applicant for the year 2001 compared to

• The applicant's past projected share of world trade of the commodities being promoted by the applicant for the year 2001, as specified in the 1998 Cooperator program application.

The Commodity Divisions' recommended funding level for each applicant is converted to a percentage of the total Cooperator program funds available then multiplied by the total weight factor to determine the amount of funds allocated to each applicant.

Closing Date for Applications

All Internet-based applications must be properly submitted by 5 p.m. Eastern Standard Time, March 11, 2002. Signed certification statements also must be received by that time at one of the addresses listed below.

All applications on diskette (with two accompanying paper copies and a signed certification statement) and any other applications must be received by 5 p.m. Eastern Standard Time, March 11, 2002, at one of the following addresses:

Hand Delivery (including FedEx, DHL, UPS, etc.): U.S. Department of Agriculture, Foreign Agricultural Service, Marketing Operations Staff, Room 4932-S, 1400 Independence Avenue, SW, Washington, DC 20250-1042.

U.S. Postal Delivery: U.S. Department of Agriculture, Foreign Agricultural Service, Marketing Operations Staff, STOP 1042, 1400 Independence Ave., SW, Washington, DC 20250-1042.

Signed at Washington, DC on December 31, 2001.
Mary T. Chambliss,
Acting Administrator, Foreign Agricultural Service, and Vice President, Commodity Credit Corporation.

[FR Doc. 02-433 Filed 1-7-02; 8:45 am]

BILLING CODE 3410-10-M